DEPARTMENT OF TRANSPORTATION

Coast Guard

33 CFR Part 160

[USCG-2000-7796]

Notification of Arrival; Addition of Charterer or Cargo Owner to Required Information

AGENCY: Coast Guard, DOT.

ACTION: Request for comments.

SUMMARY: The Coast Guard is requesting comments about charterers and cargo owners to improve its Port State Control targeting matrix used to prioritize vessel boardings. The request for comments is intended to enhance the Coast Guard's understanding of the role of charterers and cargo owners in influencing the quality of shipping. Depending on the information received, we may commence a rulemaking to amend the notification requirements in the Notice of Arrival regulations.

DATES: Comments and related material must reach the Docket Management Facility on or before October 2, 2000.

ADDRESSES: To make sure your comments and related material are not entered more than once in the docket, please submit them by only one of the following means:

(1) By mail to the Docket Management Facility (USCG-2000-7796), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this Notice; request for comments, call LCDR Michael Jendrossek, Vessel and Facility Operating Standards Division, Coast Guard Headquarters, telephone 202-267-0836. For questions on viewing or submitting material to the docket, call Dorothy Beard, Chief, Dockets, Department of Transportation, telephone 202-366-9329.

SUPPLEMENTARY INFORMATION:

Request for Comments

We encourage you to participate in this Coast Guard policy development process by submitting comments and related material. If you do so, please include your name and address, identify the docket number for this notice (USCG-2000-7796), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. Your comments and materials may influence policy that we propose. We will consider all comments received during the comment period.

The Coast Guard may schedule a public meeting depending on input received in response to this notice. You may request a public meeting by submitting a request to the address under ADDRESSES. The request should include the reasons why a meeting would be beneficial. If the Coast Guard determines that a public meeting should be held, it will hold the meeting at a time and place announced by a later notice in the Federal Register.

Background and Purpose

The Ports and Waterways Safety Act of 1972 [86 Stat. 424], as amended by the Port and Tanker Safety Act of 1978 [92 Stat.127], authorizes the Secretary of the Department in which the Coast Guard is operating to require the receipt of notice from vessels destined for or departing from a port or place under the jurisdiction of the United States. This Notice of Arrival, 33 CFR Part 160, Subpart C, includes information necessary for the control of the vessel and for the safety of the port or marine environment.

In April of 1994, because of concerns raised over the steady increase in the number of substandard non-U.S. flagged vessels visiting U.S. waters, the Coast Guard established its Port State Control program (PSC) with the goal of eliminating substandard vessels from U.S. waters. Primary responsibility for ensuring that a vessel remains in compliance with applicable international and national regulations falls to the owners, operators, Flag State, and classification (class) society. Because these parties failed to carry out their responsibilities the Coast Guard implemented a more comprehensive foreign vessel boarding program that includes examinations of freight ships, tank ships, and passenger vessels.

Each year, 8000 foreign-flagged vessels make more than 50,000 U.S. port calls, and the Coast Guard conducts approximately 12,000 examinations. A risk-based targeting scheme was developed to ensure that vessels, which may pose an unacceptable risk to U.S. ports, are boarded. The targeting matrix utilizes the following information: Flag State, owner, operator, class society, ship type and operating history in U.S. waters.

The targeting matrix is a tool that the COTP uses to assign a score to each arriving vessel, and then prioritizes vessel boardings based on the total number of points assigned, as well as other factors. These vessels, representing the highest risk, are targeted for boardings. Once aboard the vessel, the Coast Guard verifies that the vessel has valid certificates from its Flag State that indicate compliance with applicable international safety and pollution prevention conventions.

If a vessel is determined to be substandard, which means that its hull, machinery, equipment, or operational readiness is substantially below required standards, it is detained until the deficiencies are corrected.

In an attempt to improve the overall quality of shipping, two recent initiatives were implemented—The International Safety Management (ISM) Code, and the 1995 amendments to the International Convention on Standards of Training, Certification and Watchkeeping for Seafarers, 1978 (STCW 95). These initiatives focus on the human element of ship operations and place responsibility with the companies operating ships. These initiatives have been effective in reducing the number of substandard vessels in U.S. waters, as well as around the world.

Despite these new initiatives, substandard vessels continue to call in U.S. waters. Although the number of detentions of substandard vessels fell from 547 in 1997 to 257 in 1999, we believe that there are still too many.

Many involved in international shipping have noted that charterers can exert considerable influence on the quality of shipping and are not held accountable by any Port State Control regime. A recent study sponsored by the Netherlands Ministry of Transport indicates that the expense of operating a substandard vessel was 14 percent less than the operating cost for a compliant vessel. This raises the possibility that charterers and cargo owners may select vessels for hire which are non-compliant because of lower charter rates.

The Coast Guard needs answers to certain questions about charterers and cargo owners to determine whether it will be appropriate to add charterers and cargo owners to the Notice of Arrival information and the targeting matrix. Because the Coast Guard does not currently have vessel charterer data, we cannot determine the impact that this information will have on the targeting matrix, or the number and percentage of detentions that would cause a charterer to be targeted. Depending on the information received, we may commence a rulemaking to amend the notification requirements in the Notice of Arrival regulations.

Of particular interest to the Coast Guard is an understanding of how chartering selections are made, the factors that are considered, how the process works, as well as economic influences.

Questions

We especially need the public's assistance in answering the following questions, and any additional information provided on this topic is welcome. In responding to each question, please explain your reasons for each answer as specifically as possible so that we can carefully weigh the consequences and impacts of any future actions we may take. For the following questions we have defined charterer as: An individual or company who hires a vessel or portion of a vessel. A charterer may also be a shipping company employee or an employee at a shipbroker whose job it is to do business on the freight market.

In preparing your response to these questions please indicate your position in the maritime industry as well as the type of vessel, cargo, and charter agreement specific to your situation, if applicable.

1. What role do the charterer and cargo owner play in ensuring ships are in compliance with international safety and pollution regulations. To what extent should they be held accountable?

2. Would publication of a list of charterers and cargo owners that are associated with detentions improve compliance with international safety standards?

3. Should the charterer and cargo owner be included in the Coast Guard's Port State Control targeting matrix? If so, does the type of chartering agreement matter when a decision is being made to determine who should be associated with a detention?

4. What is the screening process used by your company prior to chartering a vessel? How is the final vessel selection made?

5. What factors are considered when you select a vessel for charter?

6. Do you consider a vessel's safety or casualty record, including its Port State Control history in your decision process?

7. Does a charterer or cargo owner ever change during a voyage? If yes, what are the circumstances and in general how often does this occur?

8. In those instances where the charterer changes during the voyage or there are multiple cargo owners or cargo ownership changes how is responsibility for ensuring compliance with international maritime safety and pollution prevention standards determined?

9. What documentation does the vessel owner, agent, master, person-in-charge or operator have that identifies the charterer or cargo owner? Is this documentation available onboard the vessel?

10. How is the cost of a delay resulting from a Port State Control action or detention measured or determined? Who absorbs or pays for it?

11. Would requiring that the name of the charterer and cargo owner be provided as part of the notice of arrival have an impact on small businesses?

12. What would the cost be to your company of adding the name of the charterer and cargo owner to the information reported in the notice of arrival? Does this cost differ according to the type of charter, cargo owner or vessel type? What is the basis for your estimate?

13. What is your estimate of the total cost to industry of adding the name of the charterer and cargo owner to the information reported in the notice of arrival? What is the total cost by charterer, cargo owner or vessel type? What is the basis for your estimate?

Dated: August 4, 2000.
R.C. North,
Rear Admiral, U.S. Coast Guard, Assistant Commandant for Marine Safety and Environmental Protection.

[FR Doc. 00-21125 Filed 8-17-00; 8:45 am]

BILLING CODE 4910-15-U